DEPARTMENT OF JUSTICE

Parole Commission

Public Announcement; Pursuant to the Government in the Sunshine Act (Public Law 94-409) [5 U.S.C. Section 552b]

AGENCY: Department of Justice, United States, Parole Commission.

TIME AND DATE: 9:30 a.m., Thursday, November 20, 2003.

PLACE: 5550 Friendship Blvd., Fourth Floor, Chevy Chase, MD, 20815.

STATUS: Open.

MATTERS TO BE CONSIDERED: The following matters have been placed on the agenda for the open Parole Commission meeting:

1. Approval of Minutes of Previous Commission Meeting.

2. Reports from the Chairman, Commissioners, Legal, Chief of Staff, Case Operations, and Administrative Sections.

AGENCY CONTACT: Thomas W. Hutchison, Chief of Staff, United States Parole Commission, (301) 492-5590.

Dated: November 13, 2003.
Michael Stover,
Deputy General Counsel, U.S. Parole Commission.

[FR Doc. 03-28861 Filed 11-14-03; 9:27 am]

BILLING CODE 4410-31-M